DEPARTMENT OF COMMERCE

National Oceanic and Atmospheric Administration

RIN 0648-XE712

Mid-Atlantic Fishery Management Council (MAFMC); Public Meeting

AGENCY: National Marine Fisheries Service (NMFS), National Oceanic and Atmospheric Administration (NOAA), Commerce.

ACTION: Notice; public meeting.

SUMMARY: The Ecosystem and Ocean Planning Committee (EOP) of the Mid-Atlantic Fishery Management Council (Council) will hold a meeting.

DATES: The meeting will be held on Thursday and Friday, July 21-22, 2016, beginning at 1:30 p.m. on July 21 and conclude by 2 p.m. on July 22. For agenda details, see SUPPLEMENTARY INFORMATION.

ADDRESSES: The meeting will at the Royal Sonesta Harbor Court, 550 Light Street, Baltimore, MD 21202; telephone: (410) 234-0550.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The purpose of the meeting to discuss and approve the Council's Ecosystem Approach to Fisheries Management Guidance Document which will be presented to the Council at its August 2016 meeting.

Special Accommodations

The meeting is physically accessible to people with disabilities. Requests for sign language interpretation or other auxiliary aids should be directed to M. Jan Saunders at the Mid-Atlantic Council Office, (302) 526-5251, at least 5 days prior to the meeting date.

Dated: June 29, 2016.
Tracey L. Thompson,
Acting Deputy Director, Office of Sustainable Fisheries, National Marine Fisheries Service.

[FR Doc. 2016-15808 Filed 7-1-16; 8:45 am]

BILLING CODE 3510-22-P